DEPARTMENT OF HOUSING AND URBAN DEVELOPMENT

[Docket No. FR-5907-N-19]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; ARMY: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; ENERGY: Mr. David Steinau, Department of Energy, Office of Property Management, OECM MA-50, 4B122, 1000 Independence Ave. SW., Washington, DC 20585 (202) 287-1503; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202) 358-1124; NAVY: Mr. Steve Matteo, Department of the Navy, Asset Management Division, Naval Facilities Engineering Command, Washington Navy Yard, 1330 Patterson Ave. SW., Suite 1000, Washington, DC 20374; (202) 685-9426; VA: Ms. Jessica L. Kaplan, Department of Veteran Affairs, 810 Vermont Ave. NW., (0031E), Washington, DC 20420; (202) 632-5831; (These are not toll-free number).

Dated: April 28, 2016.
Tonya Proctor,
Deputy Director, Office of Special Needs Assistance Programs.

TITLE V, FEDERAL SURPLUS PROPERTY PROGRAM FEDERAL REGISTER REPORT FOR 05/06/2016

Suitable/Available Properties

Building

District of Columbia

Cotton Annex

300 12th Street SW.

Washington DC 20024

Landholding Agency: GSA

Property Number: 54201620003

Status: Excess

GSA Number: DC-0510-AB

Comments: 118,456 sq. ft., office/product testing facility sited of 1.42 acres; 108+ months vacant poor conditions PBCs; asbestos; lead; remediation needed; contact GSA for more information.

Idaho

West Trailer #1, Challis

2T1164, RPUID B 1086.002901

221 South US Hwy 93

Challis ID 83226

Landholding Agency: Agriculture

Property Number: 15201620012

Status: Excess

Comments: off-site removal only; 924 sq. ft.; mobile home; contact Agriculture for more information.

Trailer #2, Challis

2T1165, RPUID B1087.002901

221 South US Hwy 93

Challis ID 83226

Landholding Agency: Agriculture

Property Number: 15201620013

Status: Excess

Comments: off-site removal only; 924 sq. ft.; mobile home; contact Agriculture for more information.

South Central Trailer #3

Challis; 2T1166, RPUID B1088.002901

221 South US Hwy 93

Challis ID 83226

Landholding Agency: Agriculture

Property Number: 15201620015

Status: Excess

Comments: off-site removal only; 924 sq. ft.; mobile home; contact Agriculture for more information.

Maryland

Transformer Vault Structure

#155

47713 Buse Rd.

Patuxent River MD 20670

Landholding Agency: Navy

Property Number: 77201620008

Status: Unutilized

Comments: off-site removal only; 341 sq. ft.; no future agency need; PCBs/asbestos; remediation needed; contact Navy for more info.

Minnesota

Henry H. Sibley USARC

600 N. Brown Avenue

Winthrop MN 55396

Landholding Agency: GSA

Property Number: 54201620002

Status: Excess

GSA Number: 1-D-MN-0601-AA

Directions: Landholding Agency. US Army Reserve, Disposed Agency GSA

Comments: 3.67 acre parcel of land with an 4.316 sq. ft. admin. Building & 1,170 Sq. ft. maintenance building; contact GSA for more information.

Missouri

Winsor Manor

409-411 East Armour Blvd.

Kansas City MO 64109

Landholding Agency: VA

Property Number: 97201620001

Status: Unutilized

Comments: 24,484 sq. ft. residential; 16+ months vacant; major rehab needed; contamination; contact VA for more information.

Nevada

Zephyr Cove Resort

0519 Z1130 Zephyr Cove Riding Stables House

F1148.004531

Zephyr Cove NV 89448

Landholding Agency: Agriculture

Property Number: 15201620001

Status: Excess

Directions: 760 US-50

Comments: off-site removal only 754 sq. ft., poor conditions; asbestos & lead present; contact Agric. For more information.

Zephyr Cover Resort

0519 Z1608 Zephyr Cove Riding Stables

Bathroom F1180.004531

Zephyr Cove NV 89448

Landholding Agency: Agriculture

Property Number: 15201620003

Status: Unutilized

Directions: 760 US-50

Comments: off-site removal only; no future agency need 20 sq. ft.; poor conditions; 6+ months; asbestos & lead present; contact Agriculture for more information.

Zephyr Cove Resort

0519 Z1307 Stables Bunkhouse F574010315

Zephyr Cove NV 89448

Landholding Agency: Agriculture

Property Number: 15201620004

Status: Excess

Directions: 760 US-50

Comments: off-site removal only; 127 sq. ft.; poor conditions; asbestos & lead present; contact Agriculture for more information.

Zephyr Cove Resort

0519 Z1304 Zephyr Cove Riding Stables Shed

F1167.004531

Zephyr Cove NV 89448

Landholding Agency: Agriculture

Property Number: 15201620005

Status: Unutilized

Directions: 760 US-50

Comments: off-site removal only; no future agency need; 130 sq. ft.; poor condition; asbestos & lead present; contact Agriculture for more information.

Zephyr Cove Resort

0519 Z1308 Zephyr Cove Stables

F575010315 Tackroom #2

Zephyr Cove NV 89448

Landholding Agency: Agriculture

Property Number: 15201620017

Status: Unutilized

Directions: 760 US-50

Comments: off-site removal only; no future agency need; 214 sq. ft.; poor conditions; asbestos & lead present; contact Agriculture for more information.

Oregon

12 Buildings

580 Fish Lake Road

Butte Falls OR 97522

Landholding Agency: GSA

Property Number: 54201620004

Status: Excess

GSA Number: 9-I-OR-0787AA

Directions: Buildings 15111-1,800 sq. ft.; 15039-192; 15114-1,222; 15112-1,416; 15029-240; 15014-6,750; 15034-2,700; 15036-396; 15037-400; 15028-150; 15033-880; 15054-unknown; 15032-unknown

Comments: 63+ - 85+ yrs. old; historic buildings; fish hatchery w/residences; 60+ mos. vacate; contact GSA for more information.

Texas

Building 34 Greenhouse

Texas A&M University Campus

College Station TX 77845

Landholding Agency: Agriculture

Property Number: 15201620002

Status: Underutilized

Comments: 6,600 sq. ft.; 50% currently occupied; minor repair; contact Agriculture for more information.

Washington

Pair of Adjacent One-Hole Pit

Toilets

Lyons Ferry State Park

Starbuck WA 99359

Landholding Agency: COE

Property Number: 31201620001

Status: Excess

Comments: 6X6 (36 sq. ft.) each contact COE for more information.

Wisconsin

Jacobson Garage Infra #305

Loon Lake Road

Iron River WI 54847

Landholding Agency: Agriculture

Property Number: 15201620007

Status: Surplus

Comments: 37+ yrs. old; 576 sq. ft.; storage; contact Agriculture for more information.

Jacobson Residence Infra #220

Loon Lake Road

Iron River WI 54847

Landholding Agency: Agriculture

Property Number: 15201620010

Status: Unutilized

Comments: 43+ yrs. old; 2,804 sq. ft.; residential; contact Agriculture for more information.

Barley Malt Lab Bldg.

501 North Walnut St.

Madison WI 53726

Landholding Agency: Agriculture

Property Number: 15201620014

Status: Unutilized

Directions: off-site removal only; RPUID: 03.50975; Asset 10: 365510B001); main floor- 9,580; partial basement-3,200 sq. ft.

Comments: no future agency need; removal extremely difficult due to size/type; sound condition; roof needs repairs; asbestos/lead; remediation needed; contact Agriculture for more info.

Land

Oregon

Crowfoot Road Egg Taking

Station

Crowfoot Road

Jackson OR 97522

Landholding Agency: GSA

Property Number: 54201620001

Status: Excess

GSA Number: 9-I-OR-0787 AB

Directions: Landholding Agency; FWS; Disposal Agency; GSA

Comments: 10.23 acres; contact GSA for more information.

Unsuitable Properties

Building

Arkansas

Vault Toilet

Mkarans Project, Sheppard Island Park

Altheirmer AR 72004

Landholding Agency: COE

Property Number: 31201620002

Status: Unutilized

Comments: Significant water damage because located in a major flood plain.

Reasons: Extensive deterioration.

California

8 Buildings

PO Box 273, MS 4811/

Armstrong Flight Research Ctr.

Edwards CA 93523

Landholding Agency: NASA

Property Number: 71201620002

Status: Underutilized

Directions: Building 4803; 4805; 4806; 4807; 4808; 4809; T-20; 4850

Comments: public access denied and no alternative method to gain access without compromising national security.

Reasons: Secured Area.

Building 4838A-DAF Equipment R

PO Box 273, MS 4811

Edwards CA 93523

Landholding Agency: NASA

Property Number: 71201620003

Status: Surplus

Comments: public access denied and no alternative method to gain access without compromising national security.

Reasons: Secured Area.

2 Buildings

PO Box 273, MS 4811

Edwards CA

Landholding Agency: NASA

Property Number: 71201620004

Status: Unutilized

Directions: Building 4985; 4990

Comments: public access denied and no alternative method to gain access without compromising national security.

Reasons: Secured Area.

2 Buildings

PO Box 273, MS 4811

Edwards CA 93523

Landholding Agency: NASA

Property Number: 71201620005

Status: Excess

Directions: Buildings 4875A & 4875B

Comments: Public access denied and no alternative method to gain access without compromising national security.

Reasons: Secured Area.

Building 4838A—DAF

Equipment Room

P.O. Box 273, MS 4811

Edwards CA 93523

Landholding Agency: NASA

Property Number: 71201620008

Status: Excess

Comments: public access denied and no alternative method to gain access without compromising national security.

Reasons: Secured Area.

17 Buildings

311 Main Street

Point Mugu CA 93043

Landholding Agency: Navy

Property Number: 77201620009

Status: Unutilized

Directions: PM2; 57B; PM350; PM57C; PM384; PM1-838; PM57D; PM516; PM2-806; PM57E; PM517; PM3-32; PM57E; PM540; PM11; PM179

Comments: public access denied and no alternative method to gain access without compromising national security.

Reasons: Secured Area.

Building 23159

Filling Station Equipment Bldg.

Teamwork Street

Camp Pendleton CA 92055

Landholding Agency: Navy

Property Number: 77201620016

Status: Underutilized

Comments: public access and no alternative method to gain access without compromising national security.

Reasons: Secured Area.

Colorado

Thirty Mile Resort

Forest Service Rd. 520

Creede CO

Landholding Agency: Agriculture

Property Number: 15201620016

Status: Excess

Directions: 4200; 4201; 4202; 4203; 4204; 4205; 4206; 4207; 4208; 4209; 4210; 4215

Comments: documented deficiencies: due to deteriorating conditions & no foundation of each bldg. most likely will collapse if bldgs. are relocated; clear threat to physical safety.

Reasons: Extensive deterioration.

Florida

Building 935

480 Charlie Taxiway Ave.

NAS

Jacksonville FL 32212

Landholding Agency: Navy

Property Number: 77201620003

Status: Unutilized

Comments: property located within an airport runway clear zone or military airfield; public access denied and no alternative method to gain access without compromising national security.

Reasons: Within airport runway clear zone; Secured Area.

Maryland

Electric Distribution Vault

Structure #1710

47800 Jackson Rd.

Patuxent River MD 20670

Landholding Agency: Navy

Property Number: 77201620007

Status: Unutilized

Comments: public access denied and no alternative method to gain access without compromising national security;

Reasons: Secured Area

Nevada

4 Buildings

P.O. Box 238

Tonopah NV 89049

Landholding Agency: Energy

Property Number: 41201620001

Status: Excess

Directions: Buildings 03-72; 03-32; 03-33; 03-91

Comments: public access denied and no alternative method to gain access without compromising national security.

Reasons: Secured Area.

Ohio

Air Compressor Building/Glenn

6100 Columbus Avenue

Sandusky OH 44870

Landholding Agency: NASA

Property Number: 71201620001

Status: Unutilized

Comments: public access denied and no alternative method to gain access without compromising national security; property located within floodway that has not been correct or contained.

Reasons: Floodway; Secured Area.

Oregon

Heppner Wash Rack Shed

(23947010616)

120 May St.

Heppner OR 97836

Landholding Agency: Agriculture

Property Number: 15201620011

Status: Excess

Directions: 07655 03

Comments: property located within floodway that has not been correct or contained.

Reasons: Floodway.

Tennessee

3 Buildings

Y-12 National Security Complex

Oak Ridge TN 37831

Landholding Agency: Energy

Property Number: 41201620002

Status: Unutilized

Directions: Buildings K-1654-N; 9949-63; 9949-64

Comments: public access denied and no alternative method to gain access without compromising national security.

Reasons: Secured Area.

Virginia

Building 2130

Bauer Road

Quantico VA 22134

Landholding Agency: Navy

Property Number: 77201620001

Status: Unutilized

Directions: UIC M00264 Marine Corps base.

Comments: property located within an airport runway clear zone or military airfield.

Reasons: Within airport runway clear zone.

Building 2131

Bauer Road

Quantico VA 22134

Landholding Agency: Navy

Property Number: 77201620002

Status: Unutilized

Directions: UIC M00264; Marine Corps Base.

Comments: significant hole in exterior of Building structural damage.

Reasons: Extensive deterioration.

Washington

Building 06071

6071 N 16th Street

Joint Base Lewis-McChord WA 98433

Landholding Agency: Army

Property Number: 21201610064

Status: Excess

Comments: public access denied and no alternative method to gain access without compromising national security; property located within an airport runway clear zone or military airfield.

Reasons: Secured Area.

B-884 Sentry Booth

884 G Street

Bremerton WA 98314

Landholding Agency: Navy

Property Number: 77201620005

Status: Unutilized

Comments: public access denied and no alternative method to gain access without compromising national security.

Reasons: Secured Area.

Wisconsin

Beaver Dam Lodge Ranch Garage

35540 Beaver Dam Lake Road

Mellen WI 54546

Landholding Agency: Agriculture

Property Number: 15201620008

Status: Unutilized

Comments: property located within floodway that has not been correct or contained.

Reasons: Floodway.

Beaver Dam Lodge Ranch House

35540 Beaver Dam Lake Road

Mellen WI 54546

Landholding Agency: Agriculture

Property Number: 15201620009

Status: Unutilized

Comments: property located within floodway that has not been correct or contained.

Reasons: Floodway.

[FR Doc. 2016-10324 Filed 5-5-16; 8:45 am]

BILLING CODE 4210-67-P